INTERNATIONAL TRADE COMMISSION

[Investigation No. 332-530]

Trade Facilitation in the East African Community: Recent Developments and Potential Benefits, Institution of Investigation and Request for Written Statements

AGENCY: United States International Trade Commission.

ACTION: Institution of investigation and request for written statements.

SUMMARY: Following receipt of a request on March 28, 2012, from the United States Trade Representative (USTR) under section 332(g) of the Tariff Act of 1930 (19 U.S.C. 1332(g)), the U.S. International Trade Commission (Commission) instituted investigation No. 332-530, Trade Facilitation in the East African Community: Recent Developments and Potential Benefits.

DATES:

May 10, 2012: Deadline for filing written submissions.

July 2, 2012: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Falan Yinug (202-205-2160 or falan.yinug@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will conduct an investigation and prepare a report that summarizes recent developments relating to trade facilitation in the East African Community (EAC). The report will also describe the potential benefits of trade facilitation in the EAC countries, based on empirical studies and the experiences of other developing countries. As requested, the information in the report will be based principally on a review of the literature, and, to the extent the literature permits, include the following:

• A description of the present conditions and recent developments relating to the movement of goods to and from the countries of the EAC, including policies enforced at the border and procedures for their enforcement, as well as transport infrastructure. To the extent feasible, the report will address elements referenced in U.S. trade facilitation agreements, such as those between the United States and the Philippines, the United States and Uruguay, and trade facilitation chapters in U.S. free trade agreements. The description will focus on conditions in individual EAC countries as well as the EAC region as a whole.

• A summary of findings from the empirical literature on the benefits of overall trade facilitation improvements, such as effects on import and export volumes, export diversification, and economic development, including highlights of any notable findings specific to the EAC countries.

• Relevant sectoral case studies (particularly for industries where EAC countries have significant AGOA exports) from developing countries within and outside sub-Saharan Africa that illustrate the benefits of trade facilitation.

The USTR asked that the Commission provide its report no later than July 2, 2012.

Written Submissions: Because of the short time frame requested by the USTR, the Commission will not hold a public hearing in connection with this investigation. However, interested parties are invited to file written submissions concerning this investigation. All written submissions should be addressed to the Secretary, and should be received no later than 5:15 p.m., May 10, 2012. All written submissions must conform to the provisions of section 201.8 of the Commission's Rules of Practice and Procedure (19 CFR 201.8). Section 201.8 and the Commission's Handbook on Filing Procedures require that interested parties file documents electronically on or before the filing deadline and submit eight (8) true paper copies by 12 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2595).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter the USTR said that he anticipates that the Commission's report will be made available to the public in its entirety, and asked that the Commission not include any confidential business information in the report it sends him. Accordingly, any confidential business information received by the Commission in this investigation and used in preparing this report will not be included in the report that the Commission sends to the USTR and will not be published in a manner that would reveal the operations of the firm supplying the information.

By order of the Commission.
Issued: April 9, 2012.
James R. Holbein,
Secretary to the Commission.

[FR Doc. 2012-8850 Filed 4-11-12; 8:45 am]

BILLING CODE 7020-02-P